SUSQUEHANNA RIVER BASIN COMMISSION

Notice of Projects Approved for Consumptive Uses of Water

AGENCY: Susquehanna River Basin Commission.

ACTION: Notice of approved projects.

SUMMARY: This notice lists the projects approved by rule by the Susquehanna River Basin Commission during the period set forth in DATES.

DATES: July 1, 2010, through July 31, 2010.

ADDRESSES: Susquehanna River Basin Commission, 1721 North Front Street, Harrisburg, PA 17102-2391.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net. Regular mail inquiries may be sent to the above address.

SUPPLEMENTARY INFORMATION: This notice lists the projects, described below, receiving approval for the consumptive use of water pursuant to the Commission's approval by rule process set forth in 18 CFR 806.22(e) and 18 CFR 806.22(f) for the time period specified above:

Approvals by Rule Issued Under 18 CFR 806.22(e)

1. Eastern Shore Natural Gas Company, Mainline Extension Interconnect Project, ABR-201007001, Salisbury Township, Lancaster County and West Sadsbury Township, Chester County, Pa.; Consumptive Use of up to 0.300 mgd; Approval Date: July 6, 2010.

Approvals by Rule Issued Under 18 CFR 806.22(f)

1. Anadarko E&P Company, LP; Pad ID: COP Tract 285 Pad G, ABR-201007002, Grugan Township, Clinton County, Pa.; Consumptive Use of up to 3.000 mgd; Approval Date: July 6, 2010, including a partial waiver of 18 CFR 806.15.

2. Ultra Resources, Inc.; Pad ID: Stewart 805, ABR-201007003, Elk Township, Tioga County, Pa.; Consumptive Use of up to 4.990 mgd; Approval Date: July 6, 2010.

3. Talisman Energy USA, Inc.; Pad ID: Shedden 01 075, ABR-201007004, Granville Township, Bradford County, Pa.; Consumptive Use of up to 6.000 mgd; Approval Date: July 6, 2010.

4. Chesapeake Appalachia, LLC; Pad ID: Redmond, ABR-201007005, Meshoppen Township, Wyoming County, Pa.; Consumptive Use of up to 7.500 mgd; Approval Date: July 6, 2010.

5. Ultra Resources, Inc.; Pad ID: Fox 813, ABR-201007006, Gaines Township, Tioga County, Pa.; Consumptive Use of up to 4.990 mgd; Approval Date: July 6, 2010.

6. Carrizo Marcellus, LLC; Pad ID: Solanick 5H, ABR-201007007, Washington Township, Wyoming County, Pa.; Consumptive Use of up to 1.400 mgd; Approval Date: July 6, 2010.

7. Chief Oil & Gas, LLC; Pad ID: Squier Drilling Pad #1, ABR-201007008, Springville Township, Susquehanna County, Pa.; Consumptive Use of up to 2.000 mgd; Approval Date: July 7, 2010.

8. East Resources Management, LLC (Formerly East Resources, Inc.); Pad ID: Synnestvedt 878, ABR-201007009, Osceola Township, Tioga County, Pa.; Consumptive Use of up to 4.000 mgd; Approval Date: July 7, 2010.

9. East Resources Management, LLC (Formerly East Resources, Inc.); Pad ID: Matz 824, ABR-201007010, Chatham Township, Tioga County, Pa.; Consumptive Use of up to 4.000 mgd; Approval Date: July 7, 2010.

10. Talisman Energy USA, Inc.; Pad ID: Noble 03 029, ABR-201007011, Wells Township, Bradford County, Pa.; Consumptive Use of up to 6.000 mgd; Approval Date: July 7, 2010.

11. East Resources Management, LLC (Formerly East Resources, Inc.); Pad ID: Cochran 705, ABR-201007012, Union Township, Tioga County, Pa.; Consumptive Use of up to 4.000 mgd; Approval Date: July 7, 2010.

12. Southwestern Energy Production Company, Pad ID: Greenzweig 1, ABR-20090437.1, Herrick Township, Bradford County, Pa.; Consumptive Use of up to 4.999 mgd; Approval Date: July 7, 2010.

13. East Resources Management, LLC (Formerly East Resources, Inc.); Pad ID: Frost 573, ABR-201007013, Covington Township, Tioga County, Pa.; Consumptive Use of up to 4.000 mgd; Approval Date: July 8, 2010.

14. East Resources Management, LLC (Formerly East Resources, Inc.); Pad ID: Wood 513R, ABR-201007014, Rutland Township, Tioga County, Pa.; Consumptive Use of up to 4.000 mgd; Approval Date: July 8, 2010.

15. East Resources Management, LLC (Formerly East Resources, Inc.); Pad ID: Murdock 862, ABR-201007015, Deerfield Township, Tioga County, Pa.; Consumptive Use of up to 4.000 mgd; Approval Date: July 8, 2010.

16. East Resources Management, LLC (Formerly East Resources, Inc.); Pad ID: Taylor 718, ABR-201007016, Liberty Township, Tioga County, Pa.; Consumptive Use of up to 4.000 mgd; Approval Date: July 8, 2010.

17. East Resources Management, LLC (Formerly East Resources, Inc.); Pad ID: Wesneski 724, ABR-201007017, Union Township, Tioga County, Pa.; Consumptive Use of up to 4.000 mgd; Approval Date: July 8, 2010.

18. Chesapeake Appalachia, LLC; Pad ID: McCarty, ABR-201007018, Fox Township, Sullivan County, Pa.; Consumptive Use of up to 7.500 mgd; Approval Date: July 9, 2010.

19. Chesapeake Appalachia, LLC; Pad ID: Moose, ABR-201007019, Wysox Township, Bradford County, Pa.; Consumptive Use of up to 7.500 mgd; Approval Date: July 9, 2010.

20. Talisman Energy USA, Inc.; Pad ID: Nolt 01 082, ABR-201007020, Granville Township, Bradford County, Pa.; Consumptive Use of up to 6.000 mgd; Approval Date: July 9, 2010.

21. East Resources Management, LLC (Formerly East Resources, Inc.); Pad ID: Sorensen 876, ABR-201007021, Osceola Township, Tioga County, Pa.; Consumptive Use of up to 4.000 mgd; Approval Date: July 9, 2010.

22. Chesapeake Appalachia, LLC; Pad ID: Forbes NEW, ABR-201007022, Asylum Township, Bradford County, Pa.; Consumptive Use of up to 7.500 mgd; Approval Date: July 9, 2010.

23. Chesapeake Appalachia, LLC; Pad ID: Insinger, ABR-201007023, Forks Township, Sullivan County, Pa.; Consumptive Use of up to 7.500 mgd; Approval Date: July 9, 2010.

24. Chesapeake Appalachia, LLC; Pad ID: Coveytown, ABR-201007024, Cherry Township, Sullivan County, Pa.; Consumptive Use of up to 7.500 mgd; Approval Date: July 9, 2010.

25. Chesapeake Appalachia, LLC; Pad ID: Tiffany, ABR-201007025, Windham Township, Wyoming County, Pa.; Consumptive Use of up to 7.500 mgd; Approval Date: July 9, 2010.

26. Hess Corporation, Pad ID: Miller, ABR-201007026, Scott Township, Wayne County, Pa.; Consumptive Use of up to 5.000 mgd; Approval Date: July 12, 2010.

27. Hess Corporation, Pad ID: Steinberg, ABR-201007027, Preston Township, Wayne County, Pa.; Consumptive Use of up to 5.000 mgd; Approval Date: July 12, 2010.

28. Chesapeake Appalachia, LLC; Pad ID: Jacobs, ABR-201007028, Rome Township, Bradford County, Pa.; Consumptive Use of up to 7.500 mgd; Approval Date: July 13, 2010.

29. Chesapeake Appalachia, LLC; Pad ID: Katzenstein NEW, ABR-201007029, Wysox Township, Bradford County, Pa.; Consumptive Use of up to 7.500 mgd; Approval Date: July 13, 2010.

30. Chesapeake Appalachia, LLC; Pad ID: Simpson, ABR-201007030, West Burlington Township, Bradford County, Pa.; Consumptive Use of up to 7.500 mgd; Approval Date: July 13, 2010.

31. Range Resources—Appalachia, LLC; Pad ID: Lone Walnut H.C. Unit #3H Drilling Pad, ABR-201007031, Cummings Township, Lycoming County, Pa.; Consumptive Use of up to 5.000 mgd; Approval Date: July 13, 2010.

32. Chief Oil & Gas, LLC; Pad ID: Kobbe Drilling Pad #1, ABR-201007032, Elkland Township, Sullivan County, Pa.: Consumptive Use of up 2.000 mgd; Approval Date: July 14, 2010.

33. Talisman Energy USA, Inc.; Pad ID: Yurkanin 03 014, ABR-201007033, Columbia Township, Bradford County, Pa.; Consumptive Use of up to 6.000 mgd; Approval Date: July 14, 2010.

34. Chesapeake Appalachia, LLC; Pad ID: Milochik, ABR-201007034, Auburn Township, Susquehanna County, Pa.; Consumptive Use of up to 7.500 mgd; Approval Date: July 15, 2010.

35. Chesapeake Appalachia, LLC; Pad ID: Strope, ABR-201007035, Ulster Township, Bradford County, Pa.; Consumptive Use of up to 7.500 mgd; Approval Date: July 15, 2010.

36. Chesapeake Appalachia, LLC; Pad ID: Robinson NEW, ABR-201007036, Orwell Township, Bradford County, Pa.; Consumptive Use of up to 7.500 mgd; Approval Date: July 15, 2010.

37. Chesapeake Appalachia, LLC; Pad ID: Breezy, ABR-201007037, Troy Township, Bradford County, Pa.; Consumptive Use of up to 7.500 mgd; Approval Date: July 15, 2010.

38. East Resources Management, LLC (Formerly East Resources, Inc.); Pad ID: Westerbaan 723, ABR-201007038, Union Township, Tioga County, Pa.; Consumptive Use of up to 4.000 mgd; Approval Date: July 14, 2010.

39. Ultra Resources, Inc.; Pad ID: State 819 (rev); ABR-201007039, Gaines Township, Tioga County, Pa.; Consumptive Use of up to 4.990 mgd; Approval Date: July 15, 2010, including a partial waiver of 18 CFR 806.15.

40. Ultra Resources, Inc.; Pad ID: State 822; ABR-201007040, Gaines Township, Tioga County, Pa.; Consumptive Use of up to 4.990 mgd; Approval Date: July 15, 2010, including a partial waiver of 18 CFR 806.15.

41. Ultra Resources, Inc.; Pad ID: State 824; ABR-201007041, Gaines Township, Tioga County, Pa.; Consumptive Use of up to 4.990 mgd; Approval Date: July 15, 2010, including a partial waiver of 18 CFR 806.15.

42. Ultra Resources, Inc.; Pad ID: State 825; ABR-201007042, Gaines Township, Tioga County, Pa.; Consumptive Use of up to 4.990 mgd; Approval Date: July 15, 2010, including a partial waiver of 18 CFR 806.15.

43. Ultra Resources, Inc.; Pad ID: State 826; ABR-201007043, Shippen Township, Tioga County, Pa.; Consumptive Use of up to 4.990 mgd; Approval Date: July 15, 2010, including a partial waiver of 18 CFR 806.15.

44. Gastem, Inc./Gastem-USA, Inc.; Pad ID: Sheckells 1, ABR-201007044, Cherry Valley Town, Otsego County, NY; Consumptive Use of up to 0.080 mgd; Approval Date: July 15, 2010.

45. Chief Oil & Gas, LLC; Pad ID: Lightner Drilling Pad #1, ABR-201007045, Juniata Township, Blair County, Pa.; Consumptive Use of up to 2.000 mgd; Approval Date: July 15, 2010.

46. East Resources Management, LLC (Formerly East Resources, Inc.); Pad ID: Maneval 296, ABR-201007046 Delmar Township, Tioga County, Pa.; Consumptive Use of up to 4.000 mgd; Approval Date: July 15, 2010.

47. East Resources Management, LLC (Formerly East Resources, Inc.); Pad ID: Taft 851, ABR-201007047, Middlebury Township, Tioga County, Pa.; Consumptive Use of up to 4.000 mgd; Approval Date: July 15, 2010.

48. Chesapeake Appalachia, LLC; Pad ID: Barnes, ABR-201007048, Smithfield Township, Bradford County, Pa.; Consumptive Use of up to 7.500 mgd; Approval Date: July 15, 2010.

49. Anadarko E&P Company, LP; Pad ID: Robert C. Ulmer Pad A, ABR-201007049, Watson Township, Lycoming County, Pa.; Consumptive Use of up to 3.000 mgd; Approval Date: July 16, 2010.

50. East Resources Management, LLC (Formerly East Resources, Inc.); Pad ID: Thomas 503, ABR-201007050, Sullivan and Rutland Townships, Tioga County, Pa.; Consumptive Use of up to 4.000 mgd; Approval Date: July 16, 2010.

51. Energy Corporation of American, Pad ID: Coldstream Affiliates #1MH, ABR 201007051, Goshen Township, Clearfield County, Pa.; Consumptive Use of up to 1.980 mgd; Approval Date: July 16, 2010.

52. Anadarko E&P Company, LP; Pad ID: COP Tract 356 Pad D, ABR-201007052, Cummings Township, Lycoming County, Pa.; Consumptive Use of up to 3.000 mgd; Approval Date: July 16, 2010, including a partial waiver of 18 CFR 806.15.

53. Anadarko E&P Company, LP; Pad ID: COP Tract 343 Pad B, ABR-201007053, Beech Creek Township, Clinton County, Pa.; Consumptive Use of up to 3.000 mgd; Approval Date: July 19, 2010, including a partial waiver of 18 CFR 806.15.

54. Talisman Energy USA, Inc.; Pad ID: McMurray 01 031, ABR-201007054, Canton Township, Bradford County, Pa.; Consumptive Use of up to 6.000 mgd; Approval Date: July 19, 2010.

55. Hess Corporation, Pad ID: Medved, ABR-201007055, Preston Township, Wayne County, Pa.; Consumptive Use of up to 5.000 mgd; Approval Date: July 19, 2010.

56. Hess Corporation, Pad ID: Galiardo, ABR-201007056, Starrucca Borough, Wayne County, Pa.; Consumptive Use of up to 5.000 mgd; Approval Date: July 19, 2010.

57. East Resources Management, LLC (Formerly East Resources, Inc.); Pad ID: Reese 289, ABR-201007057, Charleston Township, Tioga County, Pa.; Consumptive Use of up to 4.000 mgd; Approval Date: July 19, 2010.

58. Chief Oil & Gas, LLC; Pad ID: M & L Beinlich South Drilling Pad #1, ABR-201007058, Elkland Township, Sullivan County, Pa.; Consumptive Use of up to 2.000 mgd; Approval Date: July 19, 2010.

59. Chief Oil & Gas, LLC; Pad ID: M & L Beinlich North Drilling Pad #1, ABR-201007059, Overton Township, Bradford County, Pa.; Consumptive Use of up to 2.000 mgd; Approval Date: July 19, 2010.

60. Southwestern Energy Production Company, Pad ID: Ball, ABR-201007060, Stevens Township, Bradford County, Pa.; Consumptive Use of up to 4.999 mgd; Approval Date: July 19, 2010.

61. East Resources Management, LLC (Formerly East Resources, Inc.); Pad ID: Sawyer 376, ABR-201007061, Union Township, Tioga County, Pa.; Consumptive Use of up to 4.000 mgd; Approval Date: July 19, 2010.

62. Anadarko E&P Company, LP; Pad ID: COP Tract 285 Pad C, ABR-201007062, Grugan Township, Clinton County, Pa.; Consumptive Use of up to 3.000 mgd; Approval Date: July 19, 2010, including a partial waiver of 18 CFR 806.15.

63. Chesapeake Appalachia, LLC; Pad ID: Dewees, ABR-201007063, Rome Township, Bradford County, Pa.; Consumptive Use of up to 7.500 mgd; Approval Date: July 20, 2010.

64. Carrizo Marcellus, LLC; Pad ID: Shaskas, ABR-201007064, Jessup Township, Susquehanna County, Pa.; Consumptive Use of up to 1.400 mgd; Approval Date: July 20, 2010.

65. Chesapeake Appalachia, LLC; Pad ID: Pieszala, ABR-201007065, Windham Township, Wyoming County, Pa.; Consumptive Use of up to 7.500 mgd; Approval Date: July 20, 2010.

66. East Resources Management, LLC (Formerly East Resources, Inc.); Pad ID: Harsell 883, ABR-201007066, Nelson Township, Tioga County, Pa.; Consumptive Use of up to 4.000 mgd; Approval Date: July 20, 2010.

67. Chief Oil & Gas, LLC; Pad ID: Davis Drilling Pad #1, ABR-201007067, West St. Clair Township, Bedford County, Pa.; Consumptive Use of up to 2.000 mgd; Approval Date: July 21, 2010.

68. East Resources Management, LLC (Formerly East Resources, Inc.); Pad ID: Baldwin 881, ABR-201007068, Farmington Township, Tioga County, Pa.; Consumptive Use of up to 4.000 mgd; Approval Date: July 21, 2010.

69. East Resources Management, LLC (Formerly East Resources, Inc.); Pad ID: Wood 874, ABR-201007069, Deerfield Township, Tioga County, Pa.; Consumptive Use of up to 4.000 mgd; Approval Date: July 21, 2010.

70. Anadarko E&P Company, LP; Pad ID: Jason M Phillips Pad A, ABR-201007070, Cogan House Township, Lycoming County, Pa.; Consumptive Use of up to 3.000 mgd; Approval Date: July 21, 2010.

71. Anadarko E&P Company, LP; Pad ID: Ann M Mercier Pad A, ABR-201007071, Cogan House Township, Lycoming County, Pa.; Consumptive Use of up to 3.000 mgd; Approval Date: July 21, 2010.

72. Anadarko E&P Company, LP; Pad ID: COP Tract 357 Pad B, ABR-201007072, Cummings Township, Lycoming County, Pa.; Consumptive Use of up to 3.000 mgd; Approval Date: July 21, 2010, including a partial waiver of 18 CFR 806.15.

73. Anadarko E&P Company, LP; Pad ID: COP Tract 356 Pad A, ABR-201007073, Cummings Township, Lycoming County, Pa.; Consumptive Use of up to 3.000 mgd; Approval Date: July 21, 2010, including a partial waiver of 18 CFR 806.15.

74. Anadarko E&P Company, LP; Pad ID: COP Tract 285 Pad E, ABR-201007074, Grugan Township, Clinton County, Pa.; Consumptive Use of up to 3.000 mgd; Approval Date: July 21, 2010, including a partial waiver of 18 CFR 806.15.

75. Anadarko E&P Company, LP; Pad ID: COP Tract 357 Pad A, ABR-201007075, Cummings Township, Lycoming County, Pa.; Consumptive Use of up to 3.000 mgd; Approval Date: July 21, 2010, including a partial waiver of 18 CFR 806.15.

76. Anadarko E&P Company, LP; Pad ID: Clearview HC Pad A, ABR-201007076, Gamble Township, Lycoming County, Pa.; Consumptive Use of up to 3.000 mgd; Approval Date: July 22, 2010.

77. Chesapeake Appalachia, LLC; Pad ID: Schlick NEW, ABR-201007077, Rush Township, Susquehanna County, Pa.; Consumptive Use of up to 7.500 mgd; Approval Date: July 22, 2010.

78. Chesapeake Appalachia, LLC; Pad ID: Delima, ABR-201007078, Albany Township, Bradford County, Pa.; Consumptive Use of up to 7.500 mgd; Approval Date: July 22, 2010.

79. East Resources Management, LLC (Formerly East Resources, Inc.); Pad ID: Smith 140, ABR-201007079, Charleston Township, Tioga County, Pa.; Consumptive Use of up to 4.000 mgd; Approval Date: July 22, 2010.

80. Talisman Energy USA, Inc.; Pad ID: 05 080 Young, ABR-201007080, Warren Township, Bradford County, Pa.; Consumptive Use of up to 6.000 mgd; Approval Date: July 22, 2010.

81. Williams Production Appalachia, LLC; Pad ID: M. Martin 1V, ABR-201007081, Sugarloaf Township, Columbia County, Pa.; Consumptive Use of up to 4.000 mgd; Approval Date: July 22, 2010.

82. Talisman Energy USA, Inc.; Pad ID: Thorpe 03 049, ABR-201007082, Wells Township, Bradford County, Pa.; Consumptive Use of up to 6.000 mgd; Approval Date: July 23, 2010.

83. Talisman Energy USA, Inc.; Pad ID: Szumski 03 022, ABR-201007083, Columbia Township, Bradford County, Pa.; Consumptive Use of up to 6.000 mgd; Approval Date: July 26, 2010.

84. Talisman Energy USA, Inc.; Pad ID: Watson 03 051, ABR-201007084, Columbia Township, Bradford County, Pa.; Consumptive Use of up to 6.000 mgd; Approval Date: July 26, 2010.

85. Williams Production Appalachia, LLC; Pad ID: Alder Run Land LP #5H, ABR-201007085, Cooper Township, Clearfield County, Pa.; Consumptive Use of up to 2.000 mgd; Approval Date: July 26, 2010.

86. Talisman Energy USA, Inc.; Pad ID: 05 006 Ugliuzza L, ABR-201007086, Pike Township, Bradford County, Pa.; Consumptive Use of up to 6.000 mgd; Approval Date: July 26, 2010.

87. Norse Energy Corporation USA, Pad ID: Thornhill #1, ABR-201007087, Colesville Town, Broome County, N.Y.; Consumptive Use of up to 0.150 mgd; Approval Date: July 26, 2010.

88. Talisman Energy USA, Inc.; Pad ID: Cummings 01 081, ABR-201007088, Troy Township, Bradford County, Pa.; Consumptive Use of up to 6.000 mgd; Approval Date: July 26, 2010.

89. East Resources Management, LLC (Formerly East Resources, Inc.); Pad ID: Cleveland 616, ABR-201007089, Delmar Township, Tioga County, Pa.; Consumptive Use of up to 4.000 mgd; Approval Date: July 27, 2010

90. Talisman Energy USA, Inc.; Pad ID: 05 047 Kipp, ABR-201007090, Warren Township, Bradford County, Pa.; Consumptive Use of up to 6.000 mgd; Approval Date: July 26, 2010.

91. Talisman Energy USA, Inc.; Pad ID: Kirkowski 01 066, ABR-201007091, Canton Township, Bradford County, Pa.; Consumptive Use of up to 6.000 mgd; Approval Date: July 27, 2010.

92. East Resources Management, LLC (Formerly East Resources, Inc.); Pad ID: Hedrick 702, ABR-201007092, Union Township, Tioga County, Pa.; Consumptive Use of up to 4.000 mgd; Approval Date: July 27, 2010.

93. East Resources Management, LLC (Formerly East Resources, Inc.); Pad ID: Gee 848V, ABR-201007093, Middlebury Township, Tioga County, Pa.; Consumptive Use of up to 4.000 mgd; Approval Date: July 27, 2010.

94. Talisman Energy USA, Inc.; Pad ID: Feusner 03 044, ABR-201007094, Columbia Township, Bradford County, Pa.; Consumptive Use of up to 6.000 mgd; Approval Date: July 27, 2010.

95. Talisman Energy USA, Inc.; Pad ID: Feusner 03 045, ABR-201007095, Columbia Township, Bradford County, Pa.; Consumptive Use of up to 6.000 mgd; Approval Date: July 27, 2010.

96. Talisman Energy USA, Inc.; Pad ID: Walters 05 001, ABR-201007096, Herrick Township, Bradford County, Pa.; Consumptive Use of up to 6.000 mgd; Approval Date: July 27, 2010.

97. Anadarko E&P Company, LP; Pad ID: COP Tract 231 Pad E, ABR-201007097, Boggs Township, Centre County, Pa.; Consumptive Use of up to 3.000 mgd; Approval Date: July 27, 2010, including a partial waiver of 18 CFR 806.15.

98. East Resources Management, LLC (Formerly East Resources, Inc.); Pad ID: Wolfe 1114, ABR-201007098, Nelson Township, Tioga, Pa.; Consumptive Use of up to 4.000 mgd; Approval Date: July 27, 2010.

99. Talisman Energy USA, Inc.; Pad ID: 05 004 Cooley P, ABR-201007099, Orwell Township, Bradford County, Pa.; Consumptive Use of up to 6.000 mgd; Approval Date: July 27, 2010.

100. Chesapeake Appalachia, LLC; Pad ID: Lopatofsky NEW, ABR-201007100, Washington Township, Wyoming County, Pa.; Consumptive Use of up to 7.500 mgd; Approval Date: July 27, 2010.

101. Chesapeake Appalachia, LLC; Pad ID: Rowe, ABR-201007101, Rome Township, Bradford County, Pa.; Consumptive Use of up to 7.500 mgd; Approval Date: July 27, 2010.

102. Chesapeake Appalachia, LLC; Pad ID: Scheffler, ABR-201007102, Standing Stone Township, Bradford County, Pa.; Consumptive Use of up to 7.500 mgd; Approval Date: July 27, 2010.

103. Chesapeake Appalachia, LLC; Pad ID: Bluegrass, ABR-201007103, Rush Township, Susquehanna County, Pa.; Consumptive Use of up to 7.500 mgd; Approval Date: July 27, 2010.

104. Chesapeake Appalachia, LLC; Pad ID: Wilmot, ABR-201007104, Rome Township, Bradford County, Pa.; Consumptive Use of up to 7.500 mgd; Approval Date: July 27, 2010.

105. Chesapeake Appalachia, LLC; Pad ID: Champluvier, ABR-201007105, Tuscarora Township, Bradford County, Pa.; Consumptive Use of up to 7.500 mgd; Approval Date: July 27, 2010.

106. Chesapeake Appalachia, LLC; Pad ID: Van DeMark, ABR-201007106, Windham Township, Wyoming County, Pa.; Consumptive Use of up to 7.500 mgd; Approval Date: July 27, 2010.

107. Norse Energy Corporation USA, Pad ID: Knapp, J. #1, ABR-201007107, Colesville Town, Broome County, N.Y.; Consumptive Use of up to 0.150 mgd; Approval Date: July 27, 2010.

108. Norse Energy Corporation USA, Pad ID: Klecha, M. #1, ABR-201007108, Coventry Township, Chenango County, N.Y.; Consumptive Use of up to 0.150 mgd; Approval Date: July 27, 2010.

109. Norse Energy Corporation USA, Pad ID: Norse East #1, ABR-201007109, Afton Township, Chenango County, N.Y.; Consumptive Use of up to 0.150 mgd; Approval Date: July 27, 2010.

110. Norse Energy Corporation USA, Pad ID: Norse West #1, ABR-201007110, Afton Township, Chenango County, N.Y.; Consumptive Use of up to 0.150 mgd; Approval Date: July 27, 2010.

111. Norse Energy Corporation USA, Pad ID: Anderson, C. #1, ABR-201007111, Coventry Township, Chenango County, N.Y.; Consumptive Use of up to 0.150 mgd; Approval Date: July 27, 2010.

112. Norse Energy Corporation USA, Pad ID: Norse #3, ABR-201007112, Colesville Town, Broome County, N.Y.; Consumptive Use of up to 0.150 mgd; Approval Date: July 28, 2010

113. East Resources Management, LLC (Formerly East Resources, Inc.); Pad ID: Sticklin 610, ABR-201007113, Delmar Township, Tioga County, Pa.; Consumptive Use of up to 4.000 mgd; Approval Date: July 28, 2010.

114. Anadarko E&P Company, LP; Pad ID: COP Tract 356 Pad I, ABR-201007114, Cummings Township, Lycoming County, Pa.; Consumptive Use of up to 3.000 mgd; Approval Date: July 28, 2010, including a partial waiver of 18 CFR 806.15.

115. Seneca Resources Corporation, Pad ID: Lehmann Pad K, ABR-201007115, Covington Township, Tioga County, Pa.; Consumptive Use of up to 4.000 mgd; Approval Date: July 28, 2010.

116. East Resources Management, LLC (Formerly East Resources, Inc.); Pad ID: Wood 499, ABR-201007116, Sullivan Township, Tioga County, Pa.; Consumptive Use of up to 4.000 mgd; Approval Date: July 28, 2010.

117. East Resources Management, LLC (Formerly East Resources, Inc.); Pad ID: Hamblin 860, ABR-201007117, Middlebury Township, Tioga County, Pa.; Consumptive Use of up to 4.000 mgd; Approval Date: July 28, 2010.

118. East Resources Management, LLC (Formerly East Resources, Inc.); Pad ID: Foti 721, ABR-201007118, McNett Township, Lycoming County, Pa.; Consumptive Use of up to 4.000 mgd; Approval Date: July 28, 2010.

119. East Resources Management, LLC (Formerly East Resources, Inc.); Pad ID: Clegg 722, ABR-201007119, McNett Township, Lycoming County, Pa.; Consumptive Use of up to 4.000 mgd; Approval Date: July 28, 2010.

120. Cabot Oil & Gas Corporation, Pad ID: DavisG P1, ABR-201007120, Gibson Township, Susquehanna County, Pa.; Consumptive Use of up to 3.575 mgd; Approval Date: July 28, 2010.

121. Cabot Oil & Gas Corporation, Pad ID: AdamsJ P1, ABR-201007121, Harford Township, Susquehanna County, Pa.; Consumptive Use of up to 3.575 mgd; Approval Date: July 28, 2010.

122. East Resources Management, LLC (Formerly East Resources, Inc.); Pad ID: Seeley 524, ABR-201007122, Rutland Township, Tioga County, Pa.; Consumptive Use of up to 4.000 mgd; Approval Date: July 28, 2010.

123. Chesapeake Appalachia, LLC; Pad ID: Covington, ABR-201007123, Sheshequin Township, Bradford County, Pa.; Consumptive Use of up to 7.500 mgd; Approval Date: July 28, 2010.

124. Anadarko E&P Company, LP; Pad ID: COP Tract 356 Pad F, ABR-201007124, Cummings Township, Lycoming County, Pa.; Consumptive Use of up to 3.000 mgd; Approval Date: July 29, 2010, including a partial waiver of 18 CFR 806.15.

125. Chesapeake Appalachia, LLC; Pad ID: EDF NEW, ABR-201007125, Mehoopany Township, Wyoming County, Pa.; Consumptive Use of up to 7.500 mgd; Approval Date: July 29, 2010.

126. Chesapeake Appalachia, LLC; Pad ID: Petty, ABR-201007126, Leroy Township, Bradford County, Pa.; Consumptive Use of up to 7.500 mgd; Approval Date: July 29, 2010.

127. Chesapeake Appalachia, LLC; Pad ID: Faith New, ABR-201007127, Sheshequin Township, Bradford County, Pa.; Consumptive Use of up to 7.500 mgd; Approval Date: July 29, 2010.

128. East Resources Management, LLC (Formerly East Resources, Inc.); Pad ID: Dewey Hollow Rod & Gun Club 601, ABR-201007128, Sullivan Township, Tioga County, Pa.; Consumptive Use of up to 4.000 mgd; Approval Date: July 29, 2010.

129. East Resources Management, LLC (Formerly East Resources, Inc.); Pad ID: Swingle 725, ABR-201007129, Canton Township, Bradford County, Pa.; Consumptive Use of up to 4.000 mgd; Approval Date: July 29, 2010.

130. Talisman Energy USA, Inc.; Pad ID: 05 002 Warner W, ABR-201007130, Pike Township, Bradford County, Pa.; Consumptive Use of up to 6.000 mgd; Approval Date: July 29, 2010.

131. Norse Energy Corporation USA, Pad ID: Stone #1, ABR-201007131, Afton Township, Chenango County, N.Y.; Consumptive Use of up to 0.150 mgd; Approval Date: July 30, 2010.

Authority: Pub. L. 91-575, 84 Stat. 1509 et seq., 18 CFR parts 806, 807, and 808.

Dated: August 13, 2010.
Stephanie L. Richardson,
Secretary to the Commission.

[FR Doc. 2010-20943 Filed 8-23-10; 8:45 am]

BILLING CODE 7040-01-P